DEPARTMENT OF THE INTERIOR

National Park Service

[NPS-WASO-NAGPRA-NPS0025396; PPWOCRADN0-PCU00RP14.R50000]

Notice of Inventory Completion: Discovery Place, Inc., Charlotte, NC

AGENCY: National Park Service, Interior.

ACTION: Notice.

SUMMARY: Discovery Place, Inc., has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Discovery Place, Inc. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Discovery Place, Inc. at the address in this notice by May 31, 2018.

ADDRESSES: Robyn Levitan, Discovery Place, Inc., 300 North Tryon Street, Charlotte, NC 28202, telephone (704) 372-6261 ext. 466, email robynl@discoveryplace.org.

SUPPLEMENTARY INFORMATION: Notice is here given in accordance with the Native American Graves Protection and Repatriation Act (NAGPRA), 25 U.S.C. 3003, of the completion of an inventory of human remains under the control of Discovery Place, Inc., Charlotte, NC. The human remains were removed from the Santee/Catawba River, Lancaster County, SC.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Discovery Place, Inc. professional staff in consultation with representatives of the Catawba Indian Nation (aka Catawba Tribe of South Carolina).

History and Description of the Remains

On July 22, 1977, human remains representing, at minimum, one individual were donated to Discovery Place, Inc. (then Discovery Place Nature Museum) by Otto Haas. Records indicate these human remains were removed by Otto Haas from a burial site on the Santee/Catawba River in Lancaster County, SC. No known individuals were identified. No associated funerary objects are present.

Determinations Made by Discovery Place, Inc.

Officials of Discovery Place, Inc. have determined that:

• Pursuant to 25 U.S.C. 3001(9), the human remains described in this notice represent the physical remains of one individual of Native American ancestry.

• Pursuant to 25 U.S.C. 3001(2), there is a relationship of shared group identity that can be reasonably traced between the Native American human remains and the Catawba Indian Nation (aka Catawba Tribe of South Carolina).

Additional Requestors and Disposition

Lineal descendants or representatives of any Indian Tribe or Native Hawaiian organization not identified in this notice that wish to request transfer of control of these human remains should submit a written request with information in support of the request to Robyn Levitan, Discovery Place, Inc., 300 North Tryon Street, Charlotte, NC 28202, telephone (704) 372-6261 ext. 466, email robynl@discoveryplace.org, by May 31, 2018. After that date, if no additional requestors have come forward, transfer of control of the human remains to the Catawba Indian Nation (aka Catawba Tribe of South Carolina) may proceed.

Discovery Place Inc. is responsible for notifying the Catawba Indian Nation (aka Catawba Tribe of South Carolina) that this notice has been published.

Dated: April 9, 2018.
Melanie O'Brien,
Manager, National NAGPRA Program.

[FR Doc. 2018-09173 Filed 4-30-18; 8:45 am]

BILLING CODE 4312-52-P